DEPARTMENT OF COMMERCE

National Oceanic and Atmospheric Administration

Agency Information Collection Activities; Submission to the Office of Management and Budget (OMB) for Review and Approval; Comment Request; Atlantic Highly Migratory Species (HMS) Recreational Landings and Bluefin Tuna Catch Reports

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 19, 2022, during a 60-day comment period. This notice allows for an additional 30 days for public comments.

Agency: National Oceanic & Atmospheric Administration (NOAA), Commerce.

Title: Atlantic Highly Migratory Species (HMS) Recreational Landings and Bluefin Tuna Catch Reports

OMB Control Number: 0648-0328.

Form Number(s): None.

Type of Request: Regular submission (extension of a current information collection).

Number of Respondents: 13,798.

Average Hours Per Response: 5 minutes for an initial call-in, internet, or smartphone app report; 5 minutes for a confirmation call; 10 minutes for a landing card; 1 hour for a weekly state report; and 4 hours for an annual state report.

Total Annual Burden Hours: 1,677.

Needs and Uses: Catch reporting from recreational and commercial handgear fisheries provides important data used to monitor catches of Atlantic highly migratory species (HMS) and supplements other existing data collection programs. Data collected through this program are used for both domestic and international fisheries management and stock assessment purposes.

Atlantic bluefin tuna (BFT) catch reporting provides real-time catch information used to monitor the BFT fishery. Under the Atlantic Tunas Convention Act of 1975 (ATCA, 16 U.S.C. 971), the United States is required to adopt regulations, as necessary and appropriate, to implement recommendations of the International Commission for the Conservation of Atlantic Tunas (ICCAT), including recommendations on a specified BFT quota. BFT catch reporting helps the United States monitor this quota and supports scientific research consistent with ATCA and the Magnuson-Stevens Fishery Conservation and Management Act (Magnuson-Stevens Act, 16 U.S.C. 1801 et seq.). Recreational anglers and commercial handgear fishermen are required to report specific information regarding their catch of BFT.

Atlantic billfish and swordfish are managed internationally by ICCAT and nationally under ATCA and the Magnuson-Stevens Act. This collection provides information needed to monitor the recreational catch of Atlantic blue marlin, white marlin, and roundscale spearfish, which is applied to the recreational limit established by ICCAT, and the recreational catch of North Atlantic swordfish, which is applied to the U.S. quota established by ICCAT. This collection also provides information on recreational landings of West Atlantic sailfish, which is unavailable from other established monitoring programs.

Affected Public: Businesses or other for-profit organizations; individuals or households; and State, Local, or Tribal government.

Frequency: Irregular as the reporting requirement is triggered by landing a bluefin tuna, billfish, or swordfish. Most permit holders will only need to report once or twice a year. The state of Maryland and North Carolina will submit weekly or biweekly reports on their catch card programs, plus an annual summary report.

Respondent's Obligation: HMS Angling, Charter/Headboat, and Atlantic Tunas General category permit holders are required to report landings of billfish and swordfish and bluefin tuna catch (i.e., landings and dead discards) within 24 hours. Permit holders in the state of Maryland and North Carolina are required to submit state landings report (catch card) and obtain a fish tag from a state reporting station before leaving the dock.

Legal Authority: Magnuson-Stevens Fishery Conservation and Management Act (16 U.S.C. 1801 et seq.), and the Atlantic Tunas Convention Act of 1975 (16 U.S.C. 971 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0328.

Sheleen Dumas,
Department PRA Clearance Officer, Office of the Chief Information Officer, Commerce Department.

[FR Doc. 2022-21957 Filed 10-7-22; 8:45 am]

BILLING CODE 3510-22-P